DEPARTMENT OF ENERGY

Federal Energy Regulatory Commission

Combined Notice of Filings #1

February 21, 2008.

Take notice that the Commission received the following electric rate filings:

Docket Numbers: ER07-628-001, ER07-629-001, ER07-630-001.

Applicants: Entergy Arkansas, Inc.

Description: Entergy Services, Inc. on behalf of Entergy Arkansas Inc submits corrected Second Revised Sheet 49 et al to First Revised Rate Schedule 103 to comply with Order 614.

Filed Date: 02/15/2008.

Accession Number: 20080220-0036.

Comment Date: 5 p.m. Eastern Time on Friday, March 07, 2008.

Docket Numbers: ER07-671-005.

Applicants: Trigen-St. Louis Energy Corporation.

Description: Trigen-St. Louis Energy Corp submits a Supplement to its 1/14/08 filing of a notice of non-material change in status.

Filed Date: 02/15/2008.

Accession Number: 20080220-0078.

Comment Date: 5 p.m. Eastern Time on Friday, March 07, 2008.

Docket Numbers: ER08-283-001.

Applicants: New York Independent System Operator, Inc.

Description: New York ISO, Inc submits an errata to correct ministerial errors to the tariff sheets filed 11/30/07.

Filed Date: 02/14/2008.

Accession Number: 20080220-0037.

Comment Date: 5 p.m. Eastern Time on Thursday, March 06, 2008.

Docket Numbers: ER08-335-002.

Applicants: Florida Power & Light Company.

Description: Florida Power & Light Company submits an amendment to FPL Rate Schedule FERC 312 which is in the Short Term Agreement for Partial Electric Requirements Services.

Filed Date: 02/15/2008.

Accession Number: 20080220-0038.

Comment Date: 5 p.m. Eastern Time on Friday, March 07, 2008.

Docket Numbers: ER08-455-000.

Applicants: PJM Interconnection, L.L.C.

Description: Motion to Intervene and Protest of Tenaska Power Services Co., The Tenaska Fund Parties, the Mirant Parties, Calpine Corporation, and LS Power Associates, L.P.

Filed Date: 02/15/2008.

Accession Number: 20080215-5106.

Comment Date: 5 p.m. Eastern Time on Friday, March 07, 2008.

Docket Numbers: ER08-509-000.

Applicants: Northeast Utilities Service Company.

Description: Northeast Utilities Service Company submits Transmission and Ancillary Services Wholesale Revenue Allocation Agreement with the Connecticut Light and Power Company.

Filed Date: 01/31/2008.

Accession Number: 20080204-0121.

Comment Date: 5 p.m. Eastern Time on Monday, March 3, 2008.

Docket Numbers: ER08-516-001.

Applicants: PJM Interconnection, L.L.C.

Description: PJM Interconnection, LLC submits revisions to the Reliability Pricing Model at section 510 et al of Attachment DD of the PJM OATT.

Filed Date: 02/14/2008.

Accession Number: 20080219-0094.

Comment Date: 5 p.m. Eastern Time on Thursday, March 06, 2008.

Docket Numbers: ER08-567-000.

Applicants: Southern California Edison Company.

Description: Southern California Edison Co submits a new Master Fringe Service Agreement with the City of Anaheim.

Filed Date: 02/15/2008.

Accession Number: 20080220-0040.

Comment Date: 5 p.m. Eastern Time on Friday, March 07, 2008.

Docket Numbers: ER08-568-000.

Applicants: Xcel Energy Services Inc.

Description: Xcel Energy on behalf of Northern States Power Co submits a Notice of Termination of the Transmission Capacity and Planning Agreement.

Filed Date: 02/15/2008.

Accession Number: 20080220-0041.

Comment Date: 5 p.m. Eastern Time on Friday, March 07, 2008.

Docket Numbers: ER08-569-000.

Applicants: PJM Interconnection, L.L.C.

Description: PJM Interconnection LLC submits revisions to its Credit Policy set forth in Attachment Q to the PJM OATT.

Filed Date: 02/15/2008.

Accession Number: 20080220-0042.

Comment Date: 5 p.m. Eastern Time on Friday, March 07, 2008.

Docket Numbers: ER08-570-000.

Applicants: PJM Interconnection, LLC.

Description: PJM Interconnection LLC submits revisions to the PJM Credit Policy Attachment Q of the PJM OATT, FERC Electric Tariff, Sixth Revised Volume No.1.

Filed Date: 02/15/2008.

Accession Number: 20080220-0043.

Comment Date: 5 p.m. Eastern Time on Friday, March 07, 2008.

Docket Numbers: ER08-571-000.

Applicants: ISO New England Inc.

Description: ISO New England Inc et al jointly submit revised tariff sheets and supporting testimony.

Filed Date: 02/15/2008.

Accession Number: 20080220-0044.

Comment Date: 5 p.m. Eastern Time on Friday, March 07, 2008.

Docket Numbers: ER08-572-000.

Applicants: Entergy Services Inc.

Description: Entergy Services on behalf of Entergy Operating Companies submits amendments to the agreement executed on 11/17/06 with Southwest Power Pool Inc.

Filed Date: 02/15/2008.

Accession Number: 20080220-0045.

Comment Date: 5 p.m. Eastern Time on Friday, March 07, 2008.

Docket Numbers: ER08-573-000; ER08-574-000.

Applicants: PJM Interconnection, L.L.C., Virginia Electric and Power Company.

Description: Virginia Electric and Power Co submits revised Attachment H-16D to the OATT.

Filed Date: 02/15/2008.

Accession Number: 20080220-0203.

Comment Date: 5 p.m. Eastern Time on Friday, March 07, 2008.

Docket Numbers: ER08-509-000.

Applicants: Northeast Utilities Service Company.

Description: Northeast Utilities Service Company submits Transmission and Ancillary Services Wholesale Revenue Allocation Agreement with the Connecticut Light and Power Company et al under ER08-509.

Filed Date: 01/31/2008.

Accession Number: 20080204-0121.

Comment Date: 5 p.m. Eastern Time on Thursday, February 21, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-3721 Filed 2-27-08; 8:45 am]

BILLING CODE 6717-01-P